DEPARTMENT OF ENERGY

Federal Energy Regulatory Commission

[Docket Nos. CP03-33-000, CP03-34-000 and CP03-35-000]

Wyckoff Gas Storage Company, LLC; Notice of Application

January 2, 2003.

On December 23, 2002, Wyckoff Gas Storage Company, LLC, (Wyckoff), located at 1776 Yorktown, Houston, Texas, 77056, filed an application in the above referenced dockets, pursuant to Section 7(c) of the Natural Gas Act (NGA), and Parts 157 and 284 of the Federal Energy Regulatory Commission's (Commission) Rules and Regulations for: (1) A certificate of public convenience and necessity authorizing Wyckoff to develop, construct, own, operate, maintain, and abandon a natural gas storage facility and other associated and appurtenant facilities capable of storing 6 BCF of working gas; (2) a blanket certificate pursuant to part 284, Subpart G, authorizing Wyckoff to provide storage services on behalf of others; (3) a blanket certificate pursuant to part 157, Subpart F, authorizing Wyckoff to develop, construct, acquire, own, operate, maintain, and abandon additional facilities following construction of the facilities for which authorization is being sought under part 157, Subpart A; and (4) authorization to provide storage services at market-based rates. This filing is available for review at the Commission in the Public Reference Room or may be viewed on the Commission's Web site at http://www.ferc.gov using the “FERRIS” link. Enter the docket number excluding the last three digits in the docket number field to access the document. For assistance, contact FERC Online Support at FERCOnlineSupport@ferc.gov or call toll-free, (866) 208-3676, or for TTY, (202) 502-8659.

Wyckoff states that it does not have market power in any relevant product or geographic market for storage services, and has submitted a market power study with its application, in support of its position that it lacks market power. Pursuant to its request for market-based rates, Wyckoff requests that the Commission waive (1) the requirement of 18 CFR 157.14 with respect to Exhibits K, L, N, and O of the application; (2) the accounting and reporting requirements of 18 CFR part 201 and 18 CFR 260.2; and the requirement to file the rate information required by 18 CFR 157.6(b)(8).

The storage facilities which Wyckoff seeks to construct and operate will be located in Steuben County, New York. The storage facilities will consist of two depleted natural gas reservoirs and two pipelines, totaling 11.5 miles, to interconnect the facilities with the existing pipeline systems of Tennessee Gas Pipeline, Dominion Transmission, Inc., and Columbia Gas Transmission Company. The proposed storage facility has a maximum gas volume of 10 BCF, of which 6 BCF is working gas, a maximum deliverability of 400 MMCF/d, and maximum injection capability of 250 MMCf/d. The facility requires the construction of 6 new injection/withdrawal wells, the re-completion of 3 existing wells, 9,470 horsepower compression. Wyckoff will offer firm and interruptible storage services on an open access and non-discriminatory basis.

Any questions regarding this application should be directed to Edmund A. Knolle, Executive Vice President, Wyckoff Gas Storage Company, LLC, 1776 Yorktown, Houston, Texas, 77056, (713) 961-3204.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding. with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: January 23, 2003.

Linwood A. Watson, Jr.,
Deputy Secretary.

[FR Doc. 03-295 Filed 1-3-03; 8:45 am]

BILLING CODE 6717-01-P